DEPARTMENT OF DEFENSE

Department of the Navy

Notice of Intent To Grant Exclusive Patent License; Anasys Instruments

AGENCY: Department of the Navy, DoD.

ACTION: Notice.

SUMMARY: The Department of the Navy hereby gives notice of its intent to grant to Anasys Instruments, a revocable, nonassignable, exclusive license to practice in the field of use of photo-thermal infrared spectroscopy and microscopy of solids, liquids, and gases in the United States, the Government-owned inventions described in U.S. Patent No. 9,091,594: Chemical Mapping Using Thermal Microscopy at the Micro and Nano Scales, Navy Case No. 101,493 and U.S. Patent Application No. 14/748,430: Chemical Mapping Using Thermal Microscopy at the Micro and Nano Scales, Navy Case No. 101,493 and any continuations, divisionals or re-issues thereof.

DATES: Anyone wishing to object to the grant of this license must file written objections along with supporting evidence, if any, not later than December 14, 2016.

ADDRESSES: Written objections are to be filed with the Naval Research Laboratory, Code 1004, 4555 Overlook Avenue SW., Washington, DC 20375-5320.

FOR FURTHER INFORMATION CONTACT: Charles Steenbuck, Acting Head, Technology Transfer Office, NRL Code 1004, 4555 Overlook Avenue SW., Washington, DC 20375-5320, telephone 202-767-3083. Due to U.S. Postal delays, please fax 202-404-7920, email: NRL1004@research.nrl.navy.mil or use courier delivery to expedite response.

Authority: 35 U.S.C. 207, 37 CFR part 404.

Dated: November 22, 2016.
C.D. Mora,
Commander, Judge Advocate General's Corps, U.S. Navy, Federal Register Liaison Officer.

[FR Doc. 2016-28676 Filed 11-28-16; 8:45 am]

BILLING CODE 3810-FF-P